DEPARTMENT OF TRANSPORTATION

Federal Transit Administration

Preparation of an Environmental Impact Statement and Section 4(f) Evaluation for High-Capacity Transit Improvements in the I-10 West Corridor

AGENCY: Federal Transit Administration, U.S. Department of Transportation.

ACTION: Notice of intent to prepare an Alternatives Analysis/Environmental Impact Statement and Section 4(f) Evaluation.

SUMMARY: The Federal Transit Administration (FTA) and Valley Metro Rail, Inc. (METRO) intend to prepare an Alternatives Analysis (AA)/Environmental Impact Statement (EIS) and Section 4(f) Evaluation on proposed high capacity transit improvements, including a potential light rail transit (LRT) line and/or bus rapid transit (BRT) in the Interstate 10 (I-10) West study area between the Central Phoenix/East Valley LRT Starter Line on Central Avenue and State Route 101 extending through the cities of Phoenix and Tolleson in Maricopa County, Arizona. The proposed study area is bounded by State Route 101 on the west; Thomas Road on the north; 7th Street on the east; and Buckeye Road on the south. Transit improvements and alignments within the I-10 right-of-way will be considered among the alternatives. The AA/EIS will be prepared in accordance with the requirements of the National Environmental Policy Act (NEPA), 40 CFR parts 1500-1508, and its implementing regulations. The AA/EIS process will be initiated with a scoping process that provides opportunities for the public to comment on the scope of the project and proposed alternatives to be considered in the AA and Draft Environmental Impact Statement (DEIS). This input will be used to assist decisionmakers in determining a locally preferred alternative (LPA) for the I-10 West Corridor. After the completion of the DEIS and upon selection of an LPA, METRO will request permission from FTA to enter into preliminary engineering per requirements of New Starts regulations 49 CFR part 611. The Final Environmental Impact Statement (FEIS) will be issued after FTA approves entrance into preliminary engineering.

The purpose of this notice is to alert interested parties regarding the intent to prepare the AA/EIS and Section 4(f) Evaluation, to provide information on the nature of the proposed project and possible alternatives, to invite public participation in the AA/EIS process, including comments on the scope of the alternatives proposed in this notice, to announce that public scoping meetings will be conducted, and to identify participating agency contacts.

DATES: Written and e-mailed comments on the scope of study, including the alternatives to be considered, and the impacts to be assessed, should be sent to METRO on or before November 16, 2007. See ADDRESSES below for the street address and e-mail address to which written comments may be sent. Public scoping meetings to accept comments on the scope of the study will be held on the following dates:

• Tuesday, October 23, 2007, at 6 p.m., Desert West Community Center, 6501 West Virginia Avenue, Phoenix, AZ 85035.

• Thursday, October 25, at 3 p.m., University Park Center, 350 North 10th Avenue, Phoenix, Arizona 85007.

An interagency scoping meeting will be held on the following date:

• Tuesday, October 23, 2007 at 10 a.m., Valley Metro Rail, Inc. (METRO), 101 North 1st Avenue, Suite 1300, Phoenix, Arizona 85003.

The buildings used for the scoping meetings are accessible to persons with disabilities. Any individual who requires special assistance, such as a sign language interpreter, to participate in a scoping meeting should contact Maria Hyatt, City of Phoenix City Manager's Office, 200 West Washington Street, 12th Floor, Phoenix, AZ 85003 (Telephone 602-261-8897) at least 48 hours in advance of a meeting in order for METRO and the City of Phoenix to make the necessary arrangements. Scoping materials will be available at the meetings and through the project's Web site at http://www.metrolightrail.org/I-10West. Hard copies of the scoping materials are also available from Mr. Rick Pilgrim whose contact information is given in ADDRESSES below.

ADDRESSES: Written comments should be sent to the attention of Mr. Rick Pilgrim, Valley Metro Rail, Inc., 101 North 1st Avenue, Suite 1300, Phoenix, AZ 85003. E-mail: I-10West@metrolightrail.org. Phone: (602) 495-8216; Fax: (602) 252-7453. The locations of the public scoping meetings are given above under DATES.

FOR FURTHER INFORMATION CONTACT: Mr. Hymie Luden, Office of Planning and Program Development, Federal Transit Administration, 201 Mission Street, Room 2210, San Francisco, CA 94105. Phone: (415) 744-2732. E-mail: hymie.luden@dot.gov.

SUPPLEMENTARY INFORMATION:

Scoping

The FTA and METRO invite all interested individuals and organizations, public agencies, and Native American Tribes to comment on the scope of the AA and the EIS, including the project's preliminary statement of purpose and need, the alternatives to be studied and the impacts to be evaluated. Comments should focus on the purpose and need for the proposed project; alternatives that may be less costly or have less environmental or community impacts while achieving similar transportation objectives; and significant social, economic, or environmental issues relating to the alternatives.

Purpose and Need for the Project

The purpose is defined as follows:

1. Identify a transit alternative that increases efficient access to employment opportunities throughout the Central Phoenix/West Valley region.

2. Identify an improvement that provides effective transit options to relieve peak period congestion.

3. Identify a transit improvement alternative, with a recommended alignment and technology, to connect the LRT system currently under construction with the West Valley.

4. Identify a transit improvement alternative that would facilitate continued development of a comprehensive and inter-connected regional transit network that is multi-modal, that offers a range of effective mobility choices for current and future transit riders, and that attracts new transit riders to use the growing regional system.

5. Identify an alternative that improves the efficiency of transit operations.

6. Identify an alternative that provides cost-effective transit improvements and expands access to corridor destinations.

7. Identify a transit alternative that supports economic development (including transit-oriented development), and ensures enhanced connectivity among existing and planned regional and local activity center and attractions.

Additional considerations supporting the project's need include:

The Regional Transportation Plan (RTP), adopted by the Maricopa Association of Governments (MAG) and financed under the one-half cent sales tax extension, identifies 57-miles of major light rail/high capacity transit corridors to be implemented by 2026. Currently, the 20-mile starter segment is under construction. An 11-mile extension into west Phoenix is one of five corridors identified in the RTP.

The City of Phoenix, which spans approximately 515 square miles, is the largest city in Arizona, and the fifth largest in the nation. The Arizona Department of Commerce estimates the 2006 population of Phoenix at approximately 1.5 million. The population of Phoenix is estimated by MAG to grow to approximately 2.2 million by 2030. According to the U.S. Census Bureau 73 percent of Phoenix workers drove to work alone in 2005, 16 percent carpooled, 3 percent took public transportation, 4 percent used other means, and 3 percent worked at home. Commute times averaged 26.9 minutes. The City of Phoenix currently operates a bus fleet of 485 vehicles with a daily ridership of nearly 154,000, providing over 18 million miles of annual service.

In general, travel on highways and arterials is expected to increase by approximately 30 percent between 2004 and 2030 within Maricopa County; peak period travel to work is expected to grow by about 40 percent; similar trends are anticipated for the City of Phoenix. Growth in the City of Phoenix and adjacent jurisdictions has caused substantial increases in traffic congestion on the existing roadway network, and has generated the need for new or improved public transportation service. Even with implementation of the projects included in the MAG RTP, service levels in 2030 on the area freeways and arterials is expected to deteriorate substantially due to increased travel demand, resulting in a significant increase in congestion.

The MAG 2006 Freeway Level of Service (LOS) Study shows I-10 West direction during AM and PM peak hour at LOS E and F for significant portions of the study corridor. Preliminary analysis of recent MAG traffic modeling for 2030 indicate similar poor LOS conditions in the future for the section of I-10 within the study area.

The AA/EIS will analyze the potential for the proposed high capacity transit improvements to address increased demand for travel by connecting the project corridor with the LRT Starter Line on Central/First Avenue.

Alternatives:

The alternatives proposed for evaluation include:

• A no-build alternative, which includes the current network plus all ongoing, programmed, and committed projects listed in the MAG RTP;

• A Transportation Systems Management (TSM) alternative, which would include improving existing transit services such as additional bus service and routes, and which also serves as a baseline for evaluation against which all other alternatives may be compared for federal funding purposes (referred to as the FTA Future Baseline and implements all of the projects in the No-Build Alternative);

• Bus Rapid Transit alternatives; and

• Light Rail Transit alternatives.

Each build alternative will explore the construction of new transportation infrastructure such as tracks, stations, and maintenance yards. Underground, surface and/or aerial design options may be developed for each of the build alternative alignments. Multi-modal alternatives will also be explored.

The EIS Process and the Role of Participating Agencies and the Public

The purpose of the NEPA process is to explore, in a public setting, the effects of the proposed project and its alternatives on the physical, human, and natural environment. The FTA and METRO will evaluate all significant environmental, social, and economic impacts of the construction and operation of the proposed project. Impact areas to be addressed include: Land use; development potential; secondary development; land acquisition, displacements, and relocations; cultural resources (including impacts on historical and archaeological resources); parklands and recreation areas; visual and aesthetic qualities; air quality; noise and vibration; ecosystems (including threatened and endangered species); energy use; business and neighborhood disruptions; environmental justice; changes in traffic and pedestrian circulation and congestion; and changes in transit service and patronage. Measures to avoid, minimize, or mitigate any significant adverse impacts will be identified and evaluated.

The methodology for evaluation of impacts will focus on the areas of investigation mentioned above. As the public involvement and agency consultation process proceeds, additional evaluation criteria and impact assessment measures will be included in the analysis. Potential alternatives will be developed to a conceptual level, and will be screened and ranked against these evaluation criteria and local community considerations. Travel time savings, potential for congestion reduction and improved mobility options for residents of the City of Phoenix and adjacent metropolitan areas will be assessed for the transportation alternatives considered. The public involvement program and agency coordination plan discussed below will provide the vehicle through which these evaluation analyses will be conducted.

The regulations implementing NEPA, as well as provisions of the Safe, Accountable, Flexible, Efficient Transportation Equity Act: A Legacy for Users (SAFETEA-LU), call for public involvement in the EIS process. Section 6002 of SAFETEA-LU requires that FTA and METRO do the following: (1) Extend an invitation to other Federal and non-Federal agencies and Indian tribes that may have an interest in the proposed project to become “participating agencies”; (2) provide an opportunity for involvement by participating agencies and the public in helping to define the purpose and need for a proposed project, as well as the range of alternatives for consideration in the EIS; and (3) establish a plan for coordinating public and agency participation in and comment on the environmental review process.

A list of interested agencies has been developed, and an invitation to become a participating agency, with the scoping information packet appended, will be extended to other Federal and non-Federal agencies and Indian tribes that may have an interest in the proposed project. It is possible that we may not be able to identify all Federal and non-Federal agencies and Indian tribes that may have such an interest. Any Federal or non-Federal agency or Indian tribe interested in the proposed project that does not receive an invitation to become a participating agency should notify, at the earliest opportunity, the person identified above under ADDRESSES.

A comprehensive Public Involvement Program will be developed, and a public and agency involvement Coordination Plan will be created. The Public Involvement Program will include a full range of involvement activities. Activities will include outreach to local and county officials and community and civic groups; a public scoping process to define the issues of concern among all parties interested in the project; organizing periodic meetings with various local agencies, organizations and committees; a public hearing upon release of the Draft Environmental Impact Statement (DEIS); development and distribution of project newsletters and the establishment of a project Web site. Opportunities to participate in the scoping process, in addition to the public meetings announced in this notice, will be made available. Specific mechanisms for involvement will be detailed in the Public Involvement Program.

METRO may seek New Starts funding for the proposed project under 49 U.S.C. 5309 and will therefore be subject to New Starts regulations (49 CFR part 611). The New Starts regulations require a planning Alternatives Analysis that leads to the selection of a locally preferred alternative and the inclusion of the locally preferred alternative as part of the long-range transportation plan adopted by the MAG. The New Starts regulations also require the submission of certain project-justification information in support of a request to initiate preliminary engineering, and this information is normally developed in conjunction with the NEPA process. Pertinent New Starts evaluation criteria will be included in the Final EIS.

The AA/EIS will be prepared in accordance with NEPA and its implementing regulations issued by the Council on Environmental Quality (40 CFR parts 1500-1508) and with the FTA/Federal Highway Administration regulations “Environmental Impact and Related Procedures” (23 CFR part 771). In accordance with 23 CFR 771.105(a) and 771.133, FTA will comply with all Federal environmental laws, regulations, and executive orders applicable to the proposed project during the environmental review process to the maximum extent practicable. These requirements include, but are not limited to, the environmental and public hearing provisions of Federal transit laws (49 U.S.C. 5301(e), 5323(b), and 5324), the project-level air quality conformity regulation of the U.S. Environmental Protection Agency (EPA) (40 CFR part 93), the Section 404(b)(1) guidelines of EPA (40 CFR part 230), the regulation implementing Section 106 of the National Historic Preservation Act (36 CFR part 800), the regulation implementing Section 7 of the Endangered Species Act (50 CFR part 402), and Executive Orders 12898 on environmental justice, 11988 on floodplain management and 11990 on wetlands. The Section 4(f) Evaluation will comply with the United States Department of Transportation Act (23 CFR 771.135).

Issued on: September 27, 2007.
Leslie T. Rogers,
Regional Administrator, FTA Region IX.

[FR Doc. E7-19417 Filed 10-1-07; 8:45 am]

BILLING CODE 4910-57-P